DEPARTMENT OF HOMELAND SECURITY

Transportation Security Administration

[Docket No. TSA-2006-26514]

Revision of Agency Information Collection Activity Under OMB Review: Physical Surface Transportation Security

AGENCY: Transportation Security Administration, DHS.

ACTION: 30-Day notice.

SUMMARY: This notice announces that the Transportation Security Administration (TSA) has forwarded the Information Collection Request (ICR), Office of Management and Budget (OMB) control number 1652-0051, abstracted below for OMB review and approval a revision of the currently approved collection under the Paperwork Reduction Act (PRA). The ICR describes the information collection and its expected burden and involves information to validate compliance with regulatory requirements aimed at enhancing physical surface transportation security, including security coordinator information, reporting of significant security concerns, submission of location and shipping information, chain of custody and control requirements, security training programs, and training records.

DATES: Send your comments by August 1, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on April 21, 2025, 90 FR 16697. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Physical Surface Transportation Security.

Type of Request: Revision of a currently approved collection.

OMB Control Number: 1652-0051.

Forms(s): NA.

Affected Public: Freight rail, passenger rail, and shippers/receivers of certain hazardous materials.

Abstract: TSA is consolidating two overlapping OMB Control Numbers, 1652-0051 Rail Transportation Security, which collects and uses information collected under 49 CFR parts 1570 and 1580, with 1652-0066 Security Training Program for Surface Transportation Employees, which collects and uses information collected under 49 CFR parts 1570, 1580, 1582, and 1584. In light of the revision to consolidate the collections, TSA will request that OMB discontinue OMB Control Number 1652-0066 Security Training Program for Surface Transportation Employees and will change the title of the collection under OMB Control Number 1652-0051 from “Rail Transportation Security” to “Physical Surface Transportation Security.”

These regulations require the collection of information to implement the regulatory requirements for the following: submission and amendment of security training program; security training recordkeeping; submission of security coordinator information; reporting of significant security concerns; submission of location and shipping information; and chain of custody and control requirements.

Estimated Annual Number of Respondents: 2,070.

Estimated Annual Burden Hours: 66,995.

Dated: June 30, 2025.
Christina A. Walsh,
Paperwork Reduction Act Officer, Information Technology, Transportation Security Administration.

[FR Doc. 2025-12395 Filed 7-1-25; 8:45 am]

BILLING CODE 9110-05-P